DEPARTMENT OF THE INTERIOR

Fish and Wildlife Service

Receipt of Application for Endangered Species Permits

AGENCY: Fish and Wildlife Service, Interior.

ACTION: Notice.

SUMMARY: The public is invited to comment on the following application to conduct certain activities with endangered species.

DATES: We must receive written data or comments on these applications at the address given below, by May 11, 2007.

ADDRESSES: Documents and other information submitted with this application are available for review, subject to the requirements of the Privacy Act and Freedom of Information Act, by any party who submits a written request for a copy of such documents to the following office within 30 days of the date of publication of this notice: U.S. Fish and Wildlife Service, 300 Westgate Center Drive, Hadley, Massachusetts 01035-9589 (Attention: Heather Bell, Permit Biologist).

FOR FURTHER INFORMATION CONTACT: Heather Bell, telephone 413-253-8645; facsimile 413-253-8428.

SUPPLEMENTARY INFORMATION: The public is invited to comment on the following amendment application for permits to conduct certain activities with endangered and threatened species. This notice is provided under section 10(c) of the Endangered Species Act of 1973, as amended (16 U.S.C. 1531 et seq.). If you wish to comment, you may submit comments by any one of the following methods. You may mail comments to the U.S. Fish and Wildlife Service's Regional Office (see ADDRESSES section) or via electronic mail to heather_bell@fws.gov. Please include your name and return address in your electronic mail message. If you do not receive a confirmation from the U.S. Fish and Wildlife Service that we have received your electronic mail message, contact us directly at the telephone number listed above (see FOR FURTHER INFORMATION CONTACT section). Finally, you may hand deliver comments to the U.S. Fish and Wildlife Service office listed above (see ADDRESSES section).

We will make all submissions from organizations or businesses, and from individuals identifying themselves as representatives or officials of organizations or businesses, available for public inspection in their entirety. We will not consider anonymous comments. Before including your address, the telephone number, electronic mail addresses, or other personal identifying information in your comment, be advised that your entire comment—including your personal identifying information—may be made publicly available at any time. While you can ask us in your comment to withhold from public review your personal identifying information, we cannot guarantee that we will be able to do so.

Applicant: New York State Department of Environmental Conservation, Division of Fish, Wildlife and Marine Resources, Albany, New York, 12233-4750.

The applicant requests an authorization to amend an existing permit (TE838253) that allows take (harm and/or harass during transport, captivity, and release) of the Karner blue butterfly (Lycaeides melissa samuelis) to include headstarting, a process of holding eggs and larvae in captivity until pupation. The permit would continue to apply throughout Albany, Schenectady, Saratoga, Warren, Erie, and Oneida Counties of New York for the purpose of enhancement and survival of the species.

Authority: The authority for this action is the Endangered Species Act of 1973, as amended (16 U.S.C. 1531 et seq.).

Dated: March 12, 2007.
Richard O. Bennett,
Acting Regional Director, Region 5, U.S. Fish and Wildlife Service.

[FR Doc. E7-6834 Filed 4-10-07; 8:45 am]

BILLING CODE 4310-55-P